DEPARTMENT OF COMMERCE

International Trade Administration

A-570-836

Glycine from the People's Republic of China: Notice of Final Results of Antidumping Duty Administrative Review

AGENCY: Import Administration, International Trade Administration, U.S. Department of Commerce.

SUMMARY: On April 7, 2005, the Department of Commerce (“the Department”) published the preliminary results of its administrative review of the antidumping duty order on glycine from the People's Republic of China (“PRC”). See Glycine From the People's Republic of China: Preliminary Results of Antidumping Duty Administrative Review, 70 FR 17649 (April 7, 2005) (“Preliminary Results”). The administrative review covers the period March 1, 2003, through February 29, 2004.

Based on our analysis of the comments received, we have made changes in the margin calculation. Therefore, the final results differ from the Preliminary Results. The final weighted-average dumping margin for the reviewed company is listed below in the section entitled “Final Results of Review.”

EFFECTIVE DATE: August 12, 2005.

FOR FURTHER INFORMATION CONTACT: Carrie Blozy at (202) 482-5403; AD/CVD Operations, Office 9, Import Administration, International Trade Administration, U.S. Department of Commerce, 14th Street and Constitution Avenue, NW, Washington, DC 20230.

SUPPLEMENTARY INFORMATION:

Background

On April 7, 2005, the Department published in the Federal Register the Preliminary Results of its administrative review of the antidumping duty order on glycine from the PRC. See Preliminary Results. The administrative review covers the period March 1, 2003, through February 29, 2004. The review covers one manufacturer/exporter of subject merchandise, Baoding Mantong Fine Chemistry Co., Ltd. (“Baoding Mantong”).

Since the publication of the Preliminary Results, the following events have occurred. The Department invited parties to comment on the Preliminary Results. On April 25, 2005, Baoding Mantong submitted a Submission of Publicly Available Data For Use As Surrogate Values (“April 2005 Surrogate Value Submission”). On May 9, 2005, the Department received a timely filed case brief from Baoding Mantong (“Case Brief”). The Department did not receive a case brief from petitioners. The Department did not receive any rebuttal briefs. On May 9, 2005, the respondent submitted a request for a hearing. On June 15, 2005, the respondent submitted a letter to withdraw its request for a hearing.

Separate Rates

Baoding Mantong has requested a separate, company-specific antidumping duty rate. In the Preliminary Results, the Department found that Baoding Mantong met the criteria for the application of a separate antidumping duty rate. The Department has not received any other information since the Preliminary Results which would warrant reconsideration of our separate-rate determination with respect to Baoding Mantong. Therefore, we determine that Baoding Mantong should be assigned an individual dumping margin in this administrative review.

Analysis of Comments Received

All issues raised in the case brief by the party in this administrative review are addressed in the Issues and Decision Memorandum (“Issues and Decision Memorandum”) from Barbara E. Tillman, Acting Deputy Assistant Secretary for Import Administration, to Joseph A. Spetrini, Acting Assistant Secretary for Import Administration, dated August 5, 2005, which is hereby adopted in this notice. A list of the issues which the party has raised and to which the Department has responded in the Issues and Decision Memorandum is attached to this notice as an Appendix. Parties can find a complete discussion of all issues raised in this review and the corresponding recommendations in this public memorandum, which is on file in the Central Records Unit (“CRU”), Room B-099, of the main Commerce building.

In addition, a complete version of the Issues and Decision Memorandum can be accessed directly on the Web at http://ia.ita.doc.gov. The paper copy and electronic version of the Issues and Decision Memorandum are identical in content.

The Department has now completed this review in accordance with section 751 of the Tariff Act of 1930, as amended.

Scope of the Order

The product covered by the order is glycine, which is a free-flowing crystalline material, like salt or sugar. Glycine is produced at varying levels of purity and is used as a sweetener/taste enhancer, a buffering agent, reabsorbable amino acid, chemical intermediate, and a metal complexing agent. This order covers glycine of all purity levels. Glycine is currently classified under subheading 2922.49.4020 of the Harmonized Tariff Schedule of the United States (HTSUS). Although the HTSUS subheading is provided for convenience and customs purposes, the written description of the merchandise under the order is dispositive.

Changes Since the Preliminary Results

Based on information the Department received after the Preliminary Results, we have made certain changes to the margin calculation for Baoding Mantong. For a complete discussion of these changes, see the Issues and Decision Memorandum.

Specifically, the Department has changed its selection of a surrogate value for the input of ammonia for the final results. See Issues and Decision Memorandum at Comment 1. The Department has also changed its selection of the surrogate companies to be used to value the financial ratios of overhead, selling, general, and administrative (“SG&A”), and profit for the final results. See Issues and Decision Memorandum at Comment 2.

Final Results of Review

For these final results the Department determines that the following weighted-average margin percentage exists for the period March 1, 2003 through February 29, 2004:

Manufacturer/Exporter | Margin (percent)
Baoding Mantong Fine Chemistry Co., Ltd. | 12.29%

Assessment of Antidumping Duties

Upon completion of this administrative review, the Department will determine, and U.S. Customs and Border Protection (“CBP”) shall assess, antidumping duties on all appropriate entries. For assessment purposes, for Baoding Mantong and all exporters subject to the PRC-wide rate, the Department will direct CBP to assess the ad valorem rates against the entered value of each entry of subject merchandise during the period of review. The Department will issue appropriate assessment instructions directly to CBP within 15 days of publication of the final results of this review.

Cash Deposit Requirements

The following deposit requirements will be effective upon publication of these final results for this administrative review for all shipments of glycine from the PRC entered, or withdrawn from warehouse, for consumption on or after the date of publication, as provided by section 751(a)(2)(C) of the Act: (1) The cash deposit rate for the reviewed company, Baoding Mantong, will be the rate established above; (2) For previously-reviewed PRC and non-PRC exporters with separate rates, the cash deposit rate will be the company-specific rate established for the most recent period; (3) For all other PRC exporters, the cash deposit rate will be the PRC-wide rate of 155.89 percent, and (4) For all other non-PRC exporters of the subject merchandise, the cash deposit rate will be the rate applicable to the PRC supplier of that exporter. These deposit requirements shall remain in effect until publication of the final results of the next administrative review. There are no changes to the rates applicable to any other companies under this antidumping duty order.

Notification to Interested Parties

This notice serves as a final reminder to importers of their responsibility under section 351.402(f) of the Department's regulations to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (“APO”) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(1) and 777(i)(1) of the Act.

Dated: August 5, 2005.
Joseph A. Spetrini,
Acting Assistant Secretary for Import Administration.

APPENDIX

Comment 1: Surrogate Value for Aqueous Ammonia

Comment 2: Financial Ratios

Comment 3: By-Product Offset

Comment 4: Alleged Clerical Error

[FR Doc. 05-16051 Filed 8-11-05; 8:45 am]

BILLING CODE 3510-DS-S